DEPARTMENT OF THE INTERIOR

National Park Service

[NPS-WASO-NAGPRA-NPS0040126; PPWOCRADN0-PCU00RP14.R50000]

Notice of Inventory Completion: Hood Museum of Art, Dartmouth College, Hanover, NH

AGENCY: National Park Service, Interior.

ACTION: Notice.

SUMMARY: In accordance with the Native American Graves Protection and Repatriation Act (NAGPRA), the Hood Museum of Art, Dartmouth College has completed an inventory of human remains and associated funerary objects and has determined that there is a cultural affiliation between the human remains and associated funerary objects and Indian Tribes or Native Hawaiian organizations in this notice.

DATES: Repatriation of the human remains and associated funerary objects in this notice may occur on or after June 13, 2025.

ADDRESSES: Jami C. Powell, Associate Director of Curatorial Affairs & Curator of Indigenous Art, Hood Museum of Art, 6 East Wheelock Street, Hanover, NH 03755, telephone (603) 646-2822, email hood.nagpra@dartmouth.edu.

SUPPLEMENTARY INFORMATION: This notice is published as part of the National Park Service's administrative responsibilities under NAGPRA. The determinations in this notice are the sole responsibility of the Hood Museum of Art, Dartmouth College, and additional information on the determinations in this notice, including the results of consultation, can be found in its inventory or related records. The National Park Service is not responsible for the determinations in this notice.

Abstract of Information Available

Human remains representing, at least, one individual have been identified. No associated funerary objects are present. This ancestor was located during a 2022 internal NAGPRA review conducted at Dartmouth College. “AL-6, Grave 1” was written on the cranium. Archival research conducted by Hood Museum of Art staff determined this ancestor is likely to have been removed from “Melton Mound 2,” a site associated with the St. Johns culture of Central and Eastern Florida.

Human remains representing, at least, one individual have been identified. No associated funerary objects are present. This ancestor is represented by a large container of sand removed from Hernandez Mound in Ormond, Florida, a location that is a known funerary site. It is unclear who removed this ancestor from the mound or when, but the ancestor was accessioned into the collections of Dartmouth College in 1927.

Human remains representing, at least, three individuals have been identified. No associated funerary objects are present. These ancestors entered the collections at Dartmouth College at some point prior to 1913. Museum documents identify them as coming from a “Burial Mound near Micco, Florida.” It is not known who removed the ancestors from this site or at what time, nor is it known who brought them to Dartmouth College.

Human remains representing, at least, one individual have been identified. The 41 associated funerary objects are worked and unworked shells, stone implements, and soil. This ancestor and their associated funerary objects were removed from the “Mysterious Island” near Sanibel, Florida by Glover Street Hastings III and G.J. Kessen from a “cremation pit” in 1940. Hastings donated the ancestral remains and associated funerary objects to Dartmouth College in 1940.

Human remains representing, at least, one individual have been identified. The five associated funerary objects are a shell, punches, and a hammerstone. This ancestor was collected from “Galt Key,” Florida, which is presumed to be Gault Island, by Glover Street Hastings III. This ancestor was bequeathed to Dartmouth College by Hastings' daughter, Carlena H. Redfield, in 1981.

Human remains representing, at least, one individual have been identified. No associated funerary objects are present. This ancestor was removed from an unspecified site in Florida by Fred Chaffee and was donated to the Dartmouth College Museum by his son, R.G. Chaffee, in March 1935.

Cultural Affiliation

Based on the information available and the results of consultation, cultural affiliation is reasonably identified by the geographical location or acquisition history of the human remains and associated funerary objects described in this notice.

Determinations

The Hood Museum of Art, Dartmouth College has determined that:

• The human remains described in this notice represent the physical remains of eight individuals of Native American ancestry.

• The 46 objects described in this notice are reasonably believed to have been placed intentionally with or near individual human remains at the time of death or later as part of the death rite or ceremony.

• There is a connection between the human remains and associated funerary objects described in this notice and the Miccosukee Tribe of Indians; Poarch Band of Creek Indians; Seminole Tribe of Florida; The Muscogee (Creek) Nation; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 13, 2025. If competing requests for repatriation are received, the Hood Museum of Art, Dartmouth College must determine the most appropriate requestor prior to repatriation. Requests for joint repatriation of the human remains and associated funerary objects are considered a single request and not competing requests. The Hood Museum of Art, Dartmouth College is responsible for sending a copy of this notice to the Indian Tribes and Native Hawaiian organizations identified in this notice.

Authority: Native American Graves Protection and Repatriation Act, 25 U.S.C. 3003, and the implementing regulations, 43 CFR 10.10.

Dated: April 30, 2025.
Melanie O'Brien,
Manager, National NAGPRA Program.

[FR Doc. 2025-08480 Filed 5-13-25; 8:45 am]

BILLING CODE 4312-52-P